FEDERAL MINE SAFETY AND HEALTH REVIEW COMMISSION

Sunshine Act Notice

February 23, 2015.

TIME AND DATE: 10:00 a.m., Thursday, March 5, 2015.

PLACE: The Richard V. Backley Hearing Room, Room 511N, 1331 Pennsylvania Avenue NW., Washington, DC 20004 (enter from F Street entrance).

STATUS: Open.

MATTERS TO BE CONSIDERED: The Commission will consider and act upon the following in open session: Pocahontas Coal Co., LLC. v. Secretary of Labor, Docket No. WEVA 2014-202-R; and Pocahontas Coal Co., LLC v. Secretary of Labor, Docket Nos. WEVA 2014-642-R, et al. (Issues include whether the Administrative Law Judges erred in ruling that they lacked jurisdiction to review a Notice of Pattern of Violations and a Notice of Safeguard, respectively.)

Any person attending this meeting who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD Relay/1-800-877-8339 for toll free.

Sarah Stewart,
Deputy General Counsel.

[FR Doc. 2015-04080 Filed 2-24-15; 11:15 am]

BILLING CODE 6735-01-P